DEPARTMENT OF ENERGY

Electricity Advisory Committee

AGENCY: Office of Electricity Delivery and Energy Reliability, Department of Energy.

ACTION: Notice of open meeting.

SUMMARY: This notice announces a meeting of the Electricity Advisory Committee (EAC). The Federal Advisory Committee Act (Pub. L. 92-463, 86 Stat. 770) requires that public notice of this meeting be announced in the Federal Register.

DATES: Wednesday, October 19, 2011: 2 p.m.-5 p.m. E.D.T.

Thursday, October 20, 2011: 8 a.m.-4 p.m. E.D.T.

ADDRESSES: National Rural Electric Cooperative Association, 4301Wilson Boulevard, Arlington, Virginia 22203.

FOR FURTHER INFORMATION CONTACT: David Meyer, Office of Electricity Delivery and Energy Reliability, U.S. Department of Energy, Forrestal Building, Room 8G-024, 1000 Independence Avenue, SW., Washington, DC 20585; telephone: (202) 586-3118; e-mail: David.Meyer@hq.doe.gov.

SUPPLEMENTARY INFORMATION: Background: The Electricity Advisory Committee (EAC) was re-established in July 2010, in accordance with the provisions of the Federal Advisory Committee Act (FACA), as amended, 5 U.S.C, App. 2, to provide advice to the U.S. Department of Energy in implementing the Energy Policy Act of 2005, executing the Energy Independence and Security Act of 2007, and modernizing the nation's electricity delivery infrastructure. The Committee is composed of individuals of diverse backgrounds selected for their technical expertise and experience, established records of distinguished professional service, and their knowledge of issues that pertain to electricity.

Purpose of the Meeting: The meeting of the EAC is expected to include presentations and discussions of reports on a prosperous, low-carbon Europe and the Smart Grid, as well as activities of the Smart Grid, Energy Storage Technologies, and Transmission Subcommittees.

Tentative Agenda: October 19, 2011. 2 p.m.-5 p.m. E.D.T.

1:30 p.m.-2 p.m. Registration.

2 p.m.-2:15 p.m. Welcome and Introductions.

2:15 p.m.-3:15 p.m. Presentation on U.S. Department of Energy's (DOE) Vision of a Future Grid.

3:15 p.m.-3:30 p.m. Break.

3:30 p.m.-4:15 p.m. Response to DOE's Vision of a Future Grid.

4:15 p.m.-5 p.m. EAC Member Roundtable Discussion on DOE's Vision of a Future Grid.

5 p.m. Adjourn Day One of EAC Meeting .

5:30 p.m.-7:30 p.m. EAC Member Dutch Treat Meeting—Venue TBD.

October 20, 2011. 8 a.m.-4 p.m. E.D.T.

7:30 a.m.-8 a.m. Registration. Continental Breakfast and Networking (EAC members only).

8 a.m.-8:15 a.m. Day Two Opening Remarks.

8:15 a.m.-9:30 a.m. Panel Discussion on Micro-Grids.

9:30 a.m.-10 a.m. EAC Members Roundtable Discussion on Micro-Grids.

10 a.m.-10:45 a.m. EAC Energy Storage Technologies Subcommittee Framework White Paper Discussion.

10:45 a.m.-11 a.m. Break.

11 a.m.-11:45 a.m. Discussion of EAC Transmission Subcommittee White Paper on Securing the Grid.

11:45 a.m.-1 p.m. Lunch (Provided to EAC members; Others on Your Own).

1 p.m.-1:45 p.m. Discussion of EAC Smart Grid Subcommittee White Paper on Grid Impacts of Deployment of Electric Vehicles.

1:45 p.m.-2:30 p.m. Panel Discussion on Interconnection-Wide Transmission Planning Processes.

2:30 p.m.-2:45 p.m. Break.

2:45 p.m.-3:15 p.m. EAC Members Roundtable Discussion on Interconnection-Wide Transmission Planning.

3:15 p.m.-3:45 p.m. Public Comments (Must register at time of check-in).

3:45 p.m.-4 p.m. 2011 Year End Wrap Up of EAC Activities.

4 p.m. Adjourn.

The meeting agenda may change to accommodate committee business. For EAC agenda updates, see the Committee Web site at: http://energy.gov/oe/electricity-advisory-committee-eac.

Public Participation: The meeting is open to the public. Members of the public who wish to make oral statements pertaining to agenda items should register to do so on the days of the meeting, Wednesday, October 19, 2011, and Thursday, October 20, 2011. Approximately thirty minutes will be reserved for public comments. Time allotted per speaker will depend on the number who wish to speak but is not expected to exceed three minutes. Anyone who is not able to attend the meeting, or for whom the allotted public comments time is insufficient to address pertinent issues with the EAC, is invited to send a written statement to Mr. David Meyer, Designated Federal Officer (DFO), U.S. Department of Energy, Office of Electricity Delivery and Energy Reliability, 1000 Independence Avenue, SW., Washington, DC 20585 or e-mail to david.meyer@hq.doe.gov. The following electronic file formats are acceptable: Microsoft Word (.doc), Corel Word Perfect (.wpd), Adobe Acrobat (.pdf), Rich Text Format (.rtf), plain text (.txt), Microsoft Excel (.xls), and Microsoft PowerPoint (.ppt). If you submit information that you believe to be exempt by law from public disclosure, you must submit one complete copy, as well as one copy from which the information claimed to be exempt by law from public disclosure has been deleted. DOE is responsible for the final determination concerning disclosure or nondisclosure of the information and for treating it in accordance with the DOE's Freedom of Information Act regulations (10 CFR 1004.11). The DFO is empowered to conduct the meeting in a fashion that will facilitate the orderly conduct of business.

Note: Delivery of the U.S. Postal Service mail to DOE continues to be delayed by several weeks due to security screening. The DOE, therefore, encourages those wishing to comment to submit comments electronically by e-mail. If comments are submitted by regular mail, the Department requests that they be accompanied by a CD or diskette containing electronic files of the submission.

Minutes: The minutes of the meeting will be available for public review and copying within 60 days and will be posted on the Committee Web site at: http://energy.gov/oe/electricity-advisory-committee-eac or by contacting Mr. David Meyer at (202) 586-3118 or by e-mail at: david.meyer@hq.doe.gov.

Issued at Washington, DC, on September 21, 2011.
LaTanya R. Butler,
Acting Deputy Committee Management Officer.

[FR Doc. 2011-24777 Filed 9-26-11; 8:45 am]

BILLING CODE 6450-01-P